INTERNATIONAL TRADE COMMISSION

[Investigation No. 337-TA-617]

In the Matter of Certain Digital Televisions and Certain Products Containing Same and Methods of Using Same; Notice of Commission Final Determination of Violation of Section 337; Termination of Investigation; Issuance of Limited Exclusion Order and Cease and Desist Orders

AGENCY: U.S. International Trade Commission.

ACTION: Notice.

SUMMARY: Notice is hereby given that the U.S. International Trade Commission has determined that there is a violation of 19 U.S.C. 1337 by Vizio, Inc. of Irvine, California (“Vizio”); AmTran Technology Co., Ltd. of Taiwan (“AmTran”); Syntax-Brillian Corporation of Tempe, Arizona (“SBC”); Taiwan Kolin Co., Ltd. of Taiwan (“Taiwan Kolin”); Proview International Holdings, Ltd. of Hong Kong (“Proview International”); Proview Technology (Shenzhen) Co., Ltd. of China (“Proview Shenzhen”); Proview Technology, Ltd. of Garden Grove, California (“Proview Technology”); TPV Technology, Ltd. of Hong Kong (“TPV Technology”); TPV International (USA), Inc. of Austin, Texas (“TPV USA”); Top Victory Electronics (Taiwan) Co., Ltd. of Taiwan (“Top Victory”); and Envision Peripherals, Inc. of Fremont, California (“Envision”) (collectively, “respondents”) in the above-captioned investigation. The investigation is terminated.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 15, 2007, based on a complaint filed by Funai Electric Co., Ltd. of Japan and Funai Corporation of Rutherford, NJ (collectively “Funai”), alleging violations of section 337 of the Tariff Act of 1930 (19 U.S.C. 1337) in the importation into the United States, the sale for importation, and the sale within the United States after importation of certain digital televisions and certain products containing the same by reason of infringement of certain claims of United States Patent Nos. 5,329,369 (“the '369 patent”) and 6,115,074 (“the '074 patent”). 72 FR 64240 (November 15, 2007). The complaint named fourteen respondents. Subsequent to institution, certain respondents were terminated from the investigation based on settlement agreements.

On November 17, 2008, the ALJ issued his final initial determination (“ID”), finding that a violation of section 337 has occurred in the importation into the United States, the sale for importation, and the sale within the United States after importation of certain digital televisions and certain products containing the same by reason of infringement of claims 1, 5, and 23 of the '074 patent. The ALJ found that no violation exists with respect to the '369 patent. Respondents, the Commission investigative attorney (“IA”), and complainant Funai each filed petitions for review of the ID on December 1, 2008. The IA, the respondents, and complainant Funai each filed responses to the petitions for review on December 9, 2008.

On February 11, 2009, the Commission determined to review the ALJ's determination that the respondents infringe claim 23 of the '074 patent and requested written submissions on the issues under review, remedy, the public interest, and bonding. On February 24, 2009, the parties filed opening submissions, and on March 3, 2009, the parties filed response submissions. Several non-parties, including MediaTek, Inc., Taipei Economic and Cultural Representative Office, and Congressman Adam Schiff of California, also filed submissions addressing issues related to remedy, the public interest, and bonding.

On March 5, 2009, the respondents filed a motion for leave to file a sur-reply to Funai's response submission on remedy, the public interest, and bonding. Both the IA and Funai opposed this motion. The Commission has determined to deny the respondents' motion for leave to file a sur-reply.

Having examined the record of this investigation, including the ALJ's final ID, the Commission has determined to (1) reverse the ALJ's findings that the Proview and TPV respondents directly infringe claim 23 of the '074 patent and (2) affirm the ALJ's conclusion that all respondents induce infringement of claim 23 of the '074 patent.

The Commission has determined that the appropriate form of relief is (i) a limited exclusion order prohibiting the unlicensed entry of digital televisions and products containing the same that infringe one or more of claims 1, 5, and 23 of the '074 patent and are manufactured abroad by or on behalf of, or imported by or on behalf of, Vizio, AmTran, SBC, Taiwan Kolin, Proview International, Proview Shenzhen, Proview Technology, TPV Technology, TPV USA, Top Victory, and Envision; and (ii) cease and desist orders against domestic respondents Vizio, Proview Technology, TPV USA, Envision and SBC.

The Commission further determined that the public interest factors enumerated in section 337(d) and (f)(19 U.S.C. 1337(d), (f)) do not preclude issuance of the limited exclusion order and the cease and desist orders. Finally, the Commission determined that the amount of bond during the Presidential review period (19 U.S.C. 1337(j)) shall be in the amount of two dollars and fifty cents ($2.50) per article that is subject to the order. The Commission's order was delivered to the President and the United States Trade Representative on the day of its issuance.

The authority for the Commission's determination is contained in section 337 of the Tariff Act of 1930, as amended (19 U.S.C. 1337), and in sections 210.42-50 of the Commission's Rules of Practice and Procedure (19 CFR 210.42-50).

Issued: April 10, 2009.
By order of the Commission.
Marilyn R. Abbott,
Secretary to the Commission.

[FR Doc. E9-8600 Filed 4-14-09; 8:45 am]

BILLING CODE 7020-02-P